DEPARTMENT OF ENERGY

Federal Energy Regulatory Commission

[Docket No. EL05-124-000]

PPL Montana, LLC; PPL Colstrip I, LLC; and PPL Colstrip II, LLC; Notice of Institution of Proceeding and Refund Effective Date

September 2, 2005.

On September 1, 2005, the Commission issued an order that instituted a proceeding in Docket No. EL05-124-000, pursuant to section 206 of the Federal Power Act (FPA), 16 U.S.C. 824e, concerning the justness and reasonableness of PPL Montana, LLC's, PPL Colstrip I, LLC's and PPL Colstrip II, LLC's market-based rates in the Northwestern control area. PPL Montana, LLC, et al., 112 FERC ¶ 61,237 (2005).

The refund effective date in Docket No. EL05-124-000, established pursuant to section 206(b) of the FPA, will be 60 days from the date of publication of this notice in the Federal Register.

Magalie R. Salas,
Secretary.

[FR Doc. E5-4914 Filed 9-8-05; 8:45 am]

BILLING CODE 6717-01-P